DEPARTMENT OF JUSTICE

8 CFR Ch. V

21 CFR Ch. I

27 CFR Ch. II

28 CFR Ch. I, V

Regulatory Agenda

AGENCY: Department of Justice.

ACTION: Semiannual regulatory agenda.

SUMMARY: The Department of Justice is publishing its fall 2015 regulatory agenda pursuant to Executive Order 12866, “Regulatory Planning and Review,” 58 FR 51735, and the Regulatory Flexibility Act, 5 U.S.C. 601 to 612 (1988).

FOR FURTHER INFORMATION CONTACT: Robert Hinchman, Senior Counsel, Office of Legal Policy, Department of Justice, Room 4252, 950 Pennsylvania Avenue NW., Washington, DC 20530, (202) 514-8059.

SUPPLEMENTARY INFORMATION: This edition of the Unified Agenda of Federal Regulatory and Deregulatory Actions includes The Regulatory Plan, which appears in both the online Unified Agenda and in part II of the Federal Register that includes the Unified Agenda. The Department of Justice's Statement of Regulatory Priorities is included in the Plan.

Beginning with the fall 2007 edition, the Internet has been the basic means for disseminating the Unified Agenda. The complete Unified Agenda will be available online at www.reginfo.gov in a format that offers users a greatly enhanced ability to obtain information from the Agenda database.

Because publication in the Federal Register is mandated for the regulatory flexibility agendas required by the Regulatory Flexibility Act (5 U.S.C. 602), the Department of Justice's printed agenda entries include only:

Rules that are in the Agency's regulatory flexibility agenda, in accordance with the Regulatory Flexibility Act, because they are likely to have a significant economic impact on a substantial number of small entities; and any rules that the Agency has identified for periodic review under section 610 of the Regulatory Flexibility Act.

Printing of these entries is limited to fields that contain information required by the Regulatory Flexibility Act's Agenda requirements. Additional information on these entries is available in the Unified Agenda published on the Internet. In addition, for fall editions of the Agenda, the entire Regulatory Plan will continue to be printed in the Federal Register, as in past years, including the Department of Justice's regulatory plan.

Dated: September 18, 2015.
Elana Tyrangiel,
Principal Deputy Assistant Attorney General, Office of Legal Policy.

Civil Rights Division—Proposed Rule Stage
Sequence No. | Title | Regulation Identifier No.
321 | Nondiscrimination on the Basis of Disability: Accessibility of Web Information and Services of State and Local Governments (Reg Plan Seq No. 71) | 1190-AA65
References in boldface appear in The Regulatory Plan in part II of this issue of the Federal Register.

Civil Rights Division—Final Rule Stage
Sequence No. | Title | Regulation Identifier No.
322 | Nondiscrimination on the Basis of Disability; Movie Captioning and Audio Description (Reg Plan Seq No. 74) | 1190-AA63
References in boldface appear in The Regulatory Plan in part II of this issue of the Federal Register.

DEPARTMENT OF JUSTICE (DOJ)

Civil Rights Division (CRT)

Proposed Rule Stage

321. Nondiscrimination on the Basis of Disability: Accessibility of Web Information and Services of State and Local Governments

Regulatory Plan: This entry is Seq. No. 71 in part II of this issue of the Federal Register.

RIN: 1190-AA65

DEPARTMENT OF JUSTICE (DOJ)

Civil Rights Division (CRT)

Final Rule Stage

322. Nondiscrimination on the Basis of Disability; Movie Captioning and Audio Description

Regulatory Plan: This entry is Seq. No. 74 in part II of this issue of the Federal Register.

RIN: 1190-AA63

[FR Doc. 2015-30625 Filed 12-14-15; 8:45 am]

BILLING CODE 4410-BP-P